DEPARTMENT OF TRANSPORTATION

Federal Motor Carrier Safety Administration

[Docket No. FMCSA-2009-0395]

Agency Information Collection Activities; Revision and Renewal of a Currently Approved Information Collection: OMB Control No. 2126-0017 (Financial Responsibility—Motor Carriers, Freight Forwarders and Brokers)

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA requests OMB approval to revise and renew a currently-approved ICR entitled, “Financial Responsibility, Trucking and Freight Forwarding,” to reflect an increase in burden hours due to an increase in the estimated number of annual responses. In addition, the title of the ICR is being changed to “Financial Responsibility—Motor Carriers, Freight Forwarders and Brokers,” to better describe its purpose. This ICR sets forth the financial responsibility documentation requirements for motor carriers (property and passenger), freight forwarders and property brokers so they can maintain the minimum levels of financial responsibility required under the Federal Motor Carrier Safety Regulations (FMCSRs) to operate in interstate, foreign or intrastate commerce. On November 24, 2008, FMCSA published a Federal Register notice allowing for a 60-day comment period on the ICR. No comments were received.

DATES: Please send your comments by March 9, 2009. OMB must receive your comments by this date in order to act quickly on the ICR.

ADDRESSES: Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Ms. Dorothea Grymes, Transportation Specialist, Office of Enforcement and Compliance, Commercial Enforcement Division, Department of Transportation, Federal Motor Carrier Safety Administration, 6th Floor, West Building, 1200 New Jersey Ave., SE., Washington, DC 20590-0001. Telephone Number: (202) 385-2405; e-mail Address: dorothea.grymes@dot.gov. Office hours are from 9 a.m. to 5 p.m., Monday through Friday, except Federal holidays.

SUPPLEMENTARY INFORMATION: Title: Financial Responsibility—Motor Carriers, Freight Forwarders and Brokers (formerly titled “Financial Responsibility, Trucking and Freight Forwarding”).

OMB Control Number: 2126-0017.

Type of Request: Revision of a currently-approved information collection.

Respondents: Motor carriers, freight forwarders and brokers.

Estimated Number of Respondents: 251,415.

Estimated Time per Response: The estimated average burden per response for the Form BMC-40 is 40 hours. The estimated average burden per response for all of the other remaining insurance forms (BMC-32, 34, 35, 36, 82, 83, 84, 85, 90, 91, and 91X) is 10 minutes per form.

Expiration Date: February 28, 2009.

Frequency of Response: Certificates of insurance, surety bonds, and trust fund agreements are required when the transportation entity first registers with the FMCSA and then when such coverages are changed or replaced by these entities. Notices of cancellation are required only when such certificates of insurance, surety bonds or trust fund agreements are canceled. The Form BMC-40 is generally filed only when a carrier seeks approval from FMCSA to self-insure its bodily injury and property damage (BI&PD) and/or cargo liability coverage.

Estimated Total Annual Burden: 66,960 hours [200 hours (5 BMC-40 filings per year × 40 hours to complete) + 66,760 hours (400,560 filings per year for all of the other insurance forms × 10 minutes/60 minutes to complete) = 66,960 hours].

Background

The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA. The registration remains valid only as long as these transportation entities maintain, on file with the FMCSA, evidence of the required levels of insurance coverage. See 49 U.S.C. 13906. FMCSA regulations governing the financial responsibility requirements for these entities are found at 49 CFR part 387.

Forms for Endorsements, Certificates of Insurance and Others

Evidence of Bodily Injury and Property Damage (BI&PD) Liability. Forms BMC-91 and 91X entitled, “Motor Carrier Automobile Bodily Injury and Property Damage Liability Certificate of Insurance,” and Form BMC-82 entitled, “Motor Carrier Bodily Injury and Property Damage Liability Surety Bond Under 49 U.S.C. § 13906,” provide evidence of the required coverage for BI&PD liability.

Requirement to obtain Surety Bond or Trust Fund Agreement. Form BMC-34 entitled, “Motor Carrier Cargo Liability Certificate of Insurance,” and Form BMC-83 entitled “Motor Carrier Cargo Liability Surety Bond Under 49 U.S.C. 13906,” establish a carrier's compliance with the agency's cargo liability requirements. Form BMC-84 entitled, “Property Broker's Surety Bond Under 49 U.S.C. 13906,” and Form BMC-85 entitled, “Property Broker's Trust Fund Agreement Under 49 U.S.C. 13906,” are filed by brokers to comply with the requirement that they must have a $10,000 surety bond or trust fund agreement in effect before FMCSA will issue a property broker license.

Cancellation of Prior Filings. Form BMC-35 entitled, “Notice of Cancellation Motor Carrier Insurance Under 49 U.S.C. 13906,” Form BMC-36 entitled, “Notice of Cancellation Motor Carrier and Brokers Surety Bonds Under 49 U.S.C. 13906,” and Form 85 entitled, “Property Broker's Trust Fund Agreement Under 49 U.S.C. 13906,” cancel prior filings.

Endorsements. Form BMC 90 entitled, “Endorsement for Motor Carrier Policies of Insurance for Automobile Bodily Injury and Property Damage Liability Under Section 13906, Title 49 of the United States Code,” and Form BMC-32 entitled, “Endorsement for Motor Common Carrier Policies of Insurance for Cargo Liability Under 49 U.S.C. 13906,” are executed by the insurance company, attached to BI&PD and cargo insurance policies, respectively, and forwarded to the motor carrier or freight forwarder. These endorsements are not filed with the FMCSA.

Self Insurance Filings. A motor carrier can also apply to the FMCSA to self-insure BI&PD and/or cargo liability in lieu of filing certificates of insurance with the FMCSA, as long as the carrier maintains a satisfactory safety rating. See 49 CFR 387.7(d)(3) and 387.309. The Form BMC-40 is the application used by carriers to apply for self-insurance authority.

Public Comments Invited: You are asked to comment on any aspect of this information collection, including: (1) Whether the proposed collection is necessary for the agency to perform its mission; (2) the accuracy of the estimated burden; (3) ways for the FMCSA to enhance the quality, usefulness, and clarity of the collected information; and (4) ways that the burden could be minimized without reducing the quality of the collected information. The agency will summarize or include your comments in the request for OMB's clearance of this information collection.

Issued on: January 29, 2009.
Terry Shelton,
Associate Administrator for Research and Information Technology.

[FR Doc. E9-2450 Filed 2-4-09; 8:45 am]

BILLING CODE 4910-EX-P